FEDERAL RETIREMENT THRIFT INVESTMENT BOARD

Notice of Board Meeting

DATES: February 23, 2022 at 10:00 a.m.

ADDRESSES: Telephonic. Dial-in (listen only) information: Number: 1-415-527-5035, Code: 2763 825 4435; or via web: https://tspmeet.webex.com/tspmeet/onstage/g.php?MTID=e668eeb9f8e4ab246455527de529d7a2b.

FOR FURTHER INFORMATION CONTACT: Kimberly Weaver, Director, Office of External Affairs, (202) 942-1640.

SUPPLEMENTARY INFORMATION:

Board Meeting Agenda

Open Session

1. Approval of the January 24, 2022 Board Meeting Minutes

2. Investment Manager Annual Service Review

3. Monthly Reports

(a) Participant Activity Report

(b) Investment Performance

(c) Legislative Report

4. Investment Policy Review Frequency

5. Quarterly Report

(d) Metrics

6. Converge Update

7. Agency Recognition

Closed Session

8. Information Covered Under 5 U.S.C. 552b(c)(10)

Authority: 5 U.S.C. 552b (e)(1).

Dated: February 10, 2022.
Dharmesh Vashee,
General Counsel, Federal Retirement Thrift Investment Board.

[FR Doc. 2022-03230 Filed 2-14-22; 8:45 am]

BILLING CODE P